DEPARTMENT OF AGRICULTURE

Foreign Agricultural Service

Notice of a Request for Extension of a Currently Approved Information Collection

AGENCY: Foreign Agricultural Service, USDA.

ACTION: Notice and request for comment.

SUMMARY: In accordance with the Paperwork Reduction Act, this notice announces the Foreign Agricultural Service's intention to request an extension for a currently approved information collection in support of the regulation providing for the issuance of certificates of quota eligibility (CQEs) required to enter sugar and sugar-containing products under the tariff-rate quotas (TRQs) into the United States.

DATES: Comments on this notice must be received by no later than September 6, 2016 to be assured of consideration.

ADDRESSES: We invite you to submit comments as requested in this document. In your comment, include the Regulation Identifier Number (RIN) and volume, date, and page number of this issue of the Federal Register. You may submit comments by any of the following methods:

• Federal eRulemaking Portal: Go to http://www.regulations.gov. Follow the online instructions for submitting comments.

• Mail, hand delivery, or courier: William Janis, International Economist, Import Policies and Export Reporting Division, Office of Trade Programs, Foreign Agricultural Service, 1400 Independence Avenue SW., Washington, DC 20250-1021, STOP 1021; or by email at William.Janis@fas.usda.gov; or by telephone at (202) 720-2194; or fax to (202) 720-0876.

Comments will be available for inspection online at http://www.regulations.gov and at the mail address listed above between 8:00 a.m. and 4:30 p.m., Monday through Friday, except holidays.

Persons with disabilities who require an alternative means for communication of information (Braille, large print, audiotape, etc.) should contact USDA's Target Center at (202) 720-2600 (voice and TDD).

FOR FURTHER INFORMATION CONTACT: William Janis, International Economist, Import Policies and Export Reporting Division, AgStop 1021, U.S. Department of Agriculture, 1400 Independence Avenue SW., Washington, DC 20250-1021 or telephone (202) 720-2194, fax to (202) 720-0876, or email William.Janis@fas.usda.gov.

SUPPLEMENTARY INFORMATION:

Title: Certificates for Quota Eligibility.

OMB Number: 0551-0014.

Expiration Date of Approval: March 31, 2017.

Type of Request: Extension of a currently approved information collection.

Abstract: Additional U.S. note 5 to Chapter 17 of the Harmonized Tariff Schedule of the United States (HTS), established by Presidential Proclamation 6763 of December 1994, authorizes the Secretary of Agriculture to establish for each fiscal year the quantity of sugars and syrups that may be entered at the lower tariff rates of TRQs. This authority was proclaimed by the President to implement the results of the Uruguay Round of multilateral trade negotiations as reflected in the provisions of Schedule XX (United States), annexed to the Agreement Establishing the World Trade Organization (WTO). Under various free trade agreements (FTAs), the United States has agreed to require CQEs for the entry into U.S. customs territory of sugar and sugar-containing products. The authority for requiring these certificates is the Implementation Acts for the U.S.-Colombia and U.S.-Panama Trade Promotion Agreements set forth under 19 U.S.C. 3805.

The terms under which Certificates for Quota Eligibility (CQEs) will be issued to foreign countries that have been allocated a share of the WTO or have an allocation under a FTA TRQ are set forth in 15 CFR part 2011, Allocation of Tariff-Rate Quota on Imported Sugars, Syrups, and Molasses, Subpart A—Certificates of Quota. This regulation provides for the issuance of CQEs by the Secretary of Agriculture and in general prohibits sugar subject to the above-mentioned TRQs from being imported into the United States or withdrawn from a warehouse for consumption at the in-quota duty rates unless such sugar is accompanied by a valid CQE.

CQEs are distributed to foreign countries by the Director of the Import Policies and Export Reporting Division, Foreign Agriculture Service, or his or her designee. The distribution of CQEs is in such amounts and at such times as the Director determines are appropriate to enable the foreign country to fill its quota allocation for such quota period in a reasonable manner, taking into account harvesting periods, U.S. import requirements, and other relevant factors. The information required to be collected on the CQE is used to monitor and control the imports of products subject to the WTO and FTA sugar TRQs. A valid CQE, duly executed and issued by the Certifying Authority of the foreign country, is required for eligibility to enter the products into U.S. customs territory under the TRQs.

Estimate of burden: The public reporting burden for the collection directly varies with the number of CQEs issued.

Respondents: Foreign governments.

Estimated number of WTO respondents: 40.

Estimated number of FTA respondents: 2.

Estimated number of responses per respondent: 30 per fiscal year.

Estimated total annual reporting burden: 210 hours.

Requests for comments: Send comments regarding (a) Whether the information collection is necessary for the proper performance of the functions of the agency, including whether the information will have practical utility; (b) the accuracy of the agency's estimate of the burden of the collection of information including validity of the methodology and assumption used; (c) ways to enhance the quality, utility and clarity of the information to be collected; and (d) ways to minimize the burden of the collection of information on those who are to respond, including through the use of automated, electronic, mechanical, or other technological collection techniques or other forms of information technology. Copies of this information collection may be obtained from Connie Ehrhart, the Agency Information Collection Coordinator, at (202) 690-1578.

All responses to this notice will be summarized and included in the request for OMB approval. All comments also will become a matter of public record.

FAS is committed to complying with the Government Paperwork Elimination Act which requires Government agencies, to the maximum extent feasible, to provide the public the option of electronically submitting information collection. CQEs permit exporters to ship raw cane sugar to the United States at the U.S. sugar price, which is ordinarily higher than the world sugar price. Therefore, in contrast to most information collection documents, CQEs have a monetary value equivalent to the substantial benefits to exporters. CQEs have always been carefully handled as secure documents and distributed only to foreign government-approved Certifying Authorities.

Signed at Washington, DC, on June 21, 2016.
Philip C. Karsting,
Administrator, Foreign Agricultural Service.

[FR Doc. 2016-16047 Filed 7-6-16; 8:45 am]

BILLING CODE 3410-10-P